ENVIRONMENTAL PROTECTION AGENCY

40 CFR Part 52

[EPA-R03-OAR-2007-0451; FRL-8333-5]

Approval and Promulgation of Air Quality Implementation Plans; Delaware; Control of VOC Emissions from Crude Oil Lightering Operations

AGENCY: Environmental Protection Agency (EPA).

ACTION: Proposed rule.

SUMMARY: EPA is proposing to approve a State Implementation Plan (SIP) revision submitted by the State of Delaware. This SIP revision pertains to the control of volatile organic compound (VOC) emissions from crude oil lightering operations. This action is being taken under the Clean Air Act (CAA).

DATES: Written comments must be received on or before August 2, 2007.

ADDRESSES: Submit your comments, identified by Docket ID Number EPA-R03-OAR-2007-0451 by one of the following methods:

A. http://www.regulations.gov. Follow the on-line instructions for submitting comments.

B. E-mail: cripps.christopher@epa.gov.

C. Mail: EPA-R03-OAR-2007-0451, Christopher Cripps, Acting Chief, Air Quality Planning Branch, Mailcode 3AP21, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2007-0451. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Delaware Department of Natural Resources & Environmental Control, 89 Kings Highway, P.O. Box 1401, Dover, Delaware 19901.

FOR FURTHER INFORMATION CONTACT: Rose Quinto, (215) 814-2182, or by e-mail at quinto.rose@epa.gov.

SUPPLEMENTARY INFORMATION:

I. Background

On May 2, 2007, the Delaware Department of Natural Resources and Environmental Control (DNREC) submitted a revision to its SIP for Regulation No. 1124, Section 46—Control of VOC Emissions from Crude Oil Lightering Operations. Lightering is the transfer at anchorage for some of the contents of a larger oil tanker to a smaller service vessel in order to allow the larger ship to navigate in shallower waters along the Delaware Bay. The VOC emissions released during crude oil lightering are a major source of VOC released in Delaware.

II. Summary of SIP Revision

Delaware's Regulation No. 1124, Section 46, applies to the owner or operator of a lightering service that carries out crude oil lightering operations in the waters of Delaware which includes the Counties of New Castle, Kent and Sussex. This regulation includes standards when carrying out a lightering operation by vapor balancing. Vapor balancing is the collection and transfer of vapors displaced by the incoming crude oil from the cargo tank of a service vessel into a cargo tank of the ship to be lightered. A compliance schedule is also included in the regulation that includes compliance standards; maximum allowable uncontrolled lightering volume; calculation of the total of uncontrolled lightering for any given lightering operation; VOC emission reductions achieved by the lightering services to below the maximum allowable uncontrolled lightering volume; annual audits of lightering service records to identify the frequency and duration of VOC ventings from the ships to be lightered; and ozone action day limitations. In addition, a compliance plan will be developed and implemented that describes how initial and ongoing compliance will be demonstrated. Another requirement of the regulation is that owner or operator of an existing lightering service is to keep records specified in the regulation for at least five years in a readily accessible location, which is the service vessel. The regulation also includes reporting requirements.

Implementation of the provisions of this regulation will result in the reduction of VOCs released during crude oil lightering operations. The regulation requires the increased use of vapor balancing equipment over a reasonable time period that the industry has indicated to allow the changes to be made to the vessels or acquire newer vessels. The first regulatory deadline will be an 80 percent limit to uncontrolled lightering out of all crude oil lightering volumes by May 1, 2008. This level will reduce to 61 percent by May 1, 2010, and again be reduced to 43 percent by May 1, 2012.

III. Proposed Action

EPA is proposing to approve the Delaware SIP revision for Regulation No. 1124, Section 46-Control of VOC Emissions from Crude Oil Lightering Operations submitted on May 2, 2007. This regulation will reduce VOC emissions released during crude oil lightering operations in the State of Delaware. These reductions will aide in attaining and maintaining the Federal health-based air quality standard for the 8-hour ozone. EPA is soliciting public comments on the issues discussed in this document. These comments will be considered before taking final action.

IV. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355 (May 22, 2001)). This action merely proposes to approve state law as meeting Federal requirements and imposes no additional requirements beyond those imposed by state law. Accordingly, the Administrator certifies that this proposed rule will not have a significant economic impact on a substantial number of small entities under the Regulatory Flexibility Act ( 5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4). This proposed rule also does not have a substantial direct effect on one or more Indian tribes, on the relationship between Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely proposes to approve a state rule implementing a Federal requirement, and does not alter the relationship or the distribution of power and responsibilities established in the Clean Air Act. This proposed rule also is not subject to Executive Order 13045 (62 FR 19885, April 23, 1997), because it approves a state rule implementing a Federal standard.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This proposed rule, pertaining to Delaware's control of VOC emissions from crude oil lightering operations, does not impose an information collection burden under the provisions of the Paperwork Reduction Act of 1995 (44 U.S.C. 3501 et seq.).

List of Subjects in 40 CFR Part 52

Environmental protection, Air pollution control, Ozone, Reporting and recordkeeping requirements, Volatile organic compounds.

Authority: 42 U.S.C. 7401 et seq.

Dated: June 22, 2007.
Donald S. Welsh,
Regional Administrator, Region III.

[FR Doc. 07-3227 Filed 7-2-07; 8:45 am]

BILLING CODE 6560-50-M